FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

Westcove Investments, Inc. dba Cargo Link International, 1810 Borrego Drive, West Covina, CA 91791. Officers: Rey Nicolas Dumandan, President/CEO (Qualifying Individual), Maria Lourdes A. Timbol, Secretary.

Seagold (USA) Inc., 219 Stuyvesant Avenue, Lyndhurst, NY 07071. Officer: Tariq Mahmood, President (Qualifying Individual).

Trans Freight (USA) Inc., 317 W. Main Street, Unit 419, Alhambra, CA 91801. Officer: Sammy Jing Huang, President (Qualifying Individual).

Nelcon Cargo Corporation, 179 Morningside Drive, Miami Springs, FL 33166. Officers: Nydia Bermudez, President (Qualifying Individual), Estela Perez, Vice President.

Dispatch Logistics Services Logistics Air Limited, 3744 Industry Avenue, Suite 404, Lakewood, CA 90712. Officers: Carla Yuen-Yi Leung, Vice President (Qualifying Individual), Leung Lai Kin, Director.

Non-Vessel—Operating Common Carrier and Ocean Freight Forwarder Transportation Intermediary Applicants:

Xima Freight Services, Inc., 8217 NW 66th Street, Miami, FL 33166. Officers: Xiomara L. Salazar, Vice President (Qualifying Individual), Maite Avila, President.

D.B. Group America, Ltd., 182-17 150th Avenue, 2nd Floor, Jamaica, NY 11413. Officers: Gian Mario Favalli, Assistant Treasurer (Qualifying Individual), Vittorino De Bortoli, President.

Ocean Freight Forwarder—Ocean Transportation Intermediary Applicants:

USA Cargo & Courier Inc., 5900 NW 97th Avenue, Unit C1 & C2, Miami, FL 33178. Officers: Heriberto Sanchez, Ocean Manager (Qualifying Individual), Alexander Moreno, President.

A & A International Shipping Inc., 333 N. Marine Avenue, Wilmington, CA 90744. Officers: Algis Gulbinas, President (Qualifying Individual), Anton Tombu, CEO.

Dated: November 19, 2004.
Bryant L. VanBrakle,
Secretary.

[FR Doc. 04-26065 Filed 11-23-04; 8:45 am]

BILLING CODE 6730-01-P